DEPARTMENT OF AGRICULTURE

Food and Nutrition Service

Agency Information Collection Activities: Proposed Collection; Comment Request—Report of Coupon Issuance and Commodity Distribution for Disaster Relief

AGENCY: Food and Nutrition Service, USDA.

ACTION: Notice.

SUMMARY: In accordance with the Paperwork Reduction Act of 1995, the Food and Nutrition Service (FNS) is publishing for public comment a summary of a proposed information collection. The proposed collection is an extension of a collection currently approved for the Food Stamp Program and the Food Distribution Program.

DATES: Comments on this notice must be received by January 3, 2005 to be assured of consideration.

ADDRESSES: Send comments and requests for copies of this information collection to Alan Rich, Program Reports, Analysis and Monitoring Branch, Budget Division, Food and Nutrition Service, USDA, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including use of appropriate, automated, electronic, mechanical, or other technological collection techniques or other forms of information technology.

All comments will be summarized and included in the request for Office of Management and Budget approval of the information collection. All comments will become a matter of public record.

FOR FURTHER INFORMATION CONTACT: Alan Rich, (703) 305-2109.

SUPPLEMENTARY INFORMATION: Title: Report of Coupon Issuance and Commodity Distribution for Disaster Relief.

OMB Number: 0584-0037.

Expiration Date: February 28, 2005.

Type of Request: Extension of a currently approved collection.

Abstract: Food distribution in disaster situations is authorized under Section 32 of the Act of August 24, 1935 (7 U.S.C. 612c); Section 416 of the Agricultural Act of 1949 (7 U.S.C. 1431); Section 709 of the Food and Agriculture Act of 1965 (7 U.S.C. 1446a-l); Section 4(a) of the Agriculture and Consumer Protection Act of 1973 (7 U.S.C. 612c note); and by Sections 412 and 413 of the Robert T. Stafford Disaster Relief and Emergency Assistance Act (42 U.S.C. 5179, 5180). Program implementing regulations are contained in 7 CFR Part 250. In accordance with § 250.43(f), distributing agencies shall provide a summary report to the agency within 45 days following termination of the disaster assistance.

Respondents: State agencies that administer USDA disaster relief activities.

Number of Respondents: 55.

Estimated Number of Responses per Respondent: The number of responses is estimated to be 1.82 responses per State agency per year.

Estimate of Burden: Public reporting burden for this collection of information is estimated to average 25 minutes per respondent for each submission.

Estimated Total Annual Burden on Respondents: 97 hours.

Dated: October 27, 2004.
Roberto Salazar,
Administrator.

[FR Doc. 04-24442 Filed 11-2-04; 8:45 am]

BILLING CODE 3410-30-P